DEPARTMENT OF HEALTH AND HUMAN SERVICES

National Institutes of Health

National Institute of General Medical Sciences Notice of Proposed Reorganization

ACTION: Announcement of public forum.

SUMMARY: The National Institute of General Medical Sciences (NIGMS) will host two public online forums to enable public discussion of the Institute's proposal to reorganize its Division for Capacity Research Building (DRCB) and Division of Pharmacology, Physiology, and Biological Chemistry (PPBC) by creating a new branch in each division.

DATES: The first public online forum will become available on July 17, 2023, and will remain open for five (5) calendar days, through July 21, 2023. The second online public forum will take place on July 26, 2023, at 11:30 a.m. EDT.

ADDRESSES: The first public forum will be held online, at https://www.research.net/r/NIGMS_DRCB_PPBC_REORG_2023 for the period of time listed above. The second public forum will be held online, at: https://nih.zoomgov.com/j/1604118277?pwd=NkhsS0E3ekN3VU8zUFRaZG5EUUdWQT09, on the date listed above.

FOR FURTHER INFORMATION CONTACT: Ayanna Vest, Supervisory Management Analyst, National Institute of General Medical Sciences, NIH, ayanna.vest@nih.gov, or 301-827-4889.

SUPPLEMENTARY INFORMATION: The NIH Reform Act of 2006 (42 U.S.C. 281 (d)(4)) requires public notice of proposed reorganization plans. This announcement and the public forum serve as that notice. The proposed DRCB reorganization seeks to provide much-needed infrastructure to afford the most effective management support for the Native American Research Centers for Health (NARCH) and the IDeA Network of Clinical and Translational Research (IDeA-CTR) related programs. The proposed PPBC reorganization seeks to provide forward-looking leadership to better produce scientific advances in the clinical sciences, and to support research opportunities in the chemistry/biochemistry areas. Creation of a new branch will enable improved management at NIGMS and enhance the impact of its funded research. The online forums will allow members of the public to review the reorganization proposals and submit comments.

Jon R. Lorsch,
Director, National Institute of General Medical Sciences, National Institutes of Health.

[FR Doc. 2023-13203 Filed 6-21-23; 8:45 am]

BILLING CODE 4140-01-P